ENVIRONMENTAL PROTECTION AGENCY

[FRL-8690-1]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1698.07; EPA's WasteWise Program (Renewal); was approved 06/24/2008; OMB Number 2050-0139; expires 06/30/2011.

EPA ICR Number 1736.05; EPA's Natural Gas STAR Program (Renewal); was approved 07/01/2008; OMB Number 2060-0328; expires 07/31/2011.

EPA ICR Number 1800.05; Information Requirements for Locomotives and Locomotive Engines (Final Rule for Locomotive and Marine Engines); in 40 CFR part 1033, subparts C, D, E and G; was approved 07/03/2008; OMB Number 2060-0392; expires 07/31/2009.

EPA ICR Number 0559.10; Application for Reference and Equivalent Method Determination (Final Rule); in 40 CFR part 53; was approved 07/03/2008; OMB Number 2080-0005; expires 07/31/2011.

Short Term Extension of Expiration Date

EPA ICR Number 0922.07; Data Call-ins for the Special Review and Registration Review Programs; a short term extension of the expiration date was granted by OMB on 06/30/2008; OMB Number 2070-0057; expires 09/30/2008.

EPA ICR Number 1911.02; Data Acquisition for Anticipated Residue and Percent of Crop Treated; a short term extension of the expiration date was granted by OMB on 06/30/2008; OMB Number 2070-0164; expires 09/30/2008.

EPA ICR Number 1504.05; Data Generation for Pesticide Reregistration; a short term extension of the expiration date was granted by OMB on 06/30/2008; OMB Number 2070-0107; expires 09/30/2008.

Comment Filed

EPA ICR Number 2294.01; National Emission Standards for Hazardous Air Pollutants for Plating and Polishing Area Sources (Proposed Rule); in 40 CFR part 63, subpart WWWWWW; OMB filed comments on 07/01/2008.

EPA ICR Number 2298.01; NESHAP for Nine Metal Fabrication and Finishing Source Categories (Proposed Rule); in 40 CFR part 63, subpart XXXXXX; OMB filed comments on 07/01/2008.

EPA ICR Number 2307.01; NSPS for Portland Cement Plants (Proposed Rule); in 40 CFR part 60, subpart F; OMB filed comments on 07/03/2008.

EPA ICR Number 0940.21; Ambient Air Quality Surveillance (Proposed Rule for Lead); OMB filed comments on 07/03/2008.

Dated: July 3, 2008.
Sara Hisel-McCoy,
Director, Collection Strategies Division.

[FR Doc. E8-15724 Filed 7-9-08; 8:45 am]

BILLING CODE 6560-50-P